DEPARTMENT OF THE TREASURY

Alcohol and Tobacco Tax and Trade Bureau

27 CFR Part 9

[Docket No. TTB-2013-0003; T.D. TTB-118; Ref: Notice No. 134]

RIN 1513-AB99

Establishment of the Big Valley District-Lake County and Kelsey Bench-Lake County Viticultural Areas and Modification of the Red Hills Lake County Viticultural Area

AGENCY: Alcohol and Tobacco Tax and Trade Bureau, Treasury.

ACTION: Final rule; Treasury Decision.

SUMMARY: The Alcohol and Tobacco Tax and Trade Bureau (TTB) establishes the approximately 11,000-acre “Big Valley District-Lake County” viticultural area and the approximately 9,100-acre “Kelsey Bench-Lake County” viticultural area, both in Lake County, California. Additionally, TTB modifies the boundary of the established 31,250-acre Red Hills Lake County viticultural area in order to align a portion of its border with that of the proposed Kelsey Bench-Lake County viticultural area. The proposed viticultural areas and the established viticultural area lie entirely within the larger Clear Lake viticultural area and the multicounty North Coast viticultural area. TTB designates viticultural areas to allow vintners to better describe the origin of their wines and to allow consumers to better identify wines they may purchase.

DATES: This final rule is effective November 1, 2013.

FOR FURTHER INFORMATION CONTACT: Karen A. Thornton, Regulations and Rulings Division, Alcohol and Tobacco Tax and Trade Bureau, 1310 G Street NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01 (Revised), dated January 21, 2003, to the TTB Administrator to perform the functions and duties in the administration and enforcement of this law.

Part 4 of the TTB regulations (27 CFR part 4) allows the establishment of definitive viticultural areas and the use of their names as appellations of origin on wine labels and in wine advertisements. Part 9 of the TTB regulations (27 CFR part 9) sets forth standards for the preparation and submission of petitions for the establishment or modification of American viticultural areas and lists the approved American viticultural areas.

Definition

Section 4.25(e)(1)(i) of the TTB regulations (27 CFR 4.25(e)(1)(i)) defines a viticultural area for American wine as a delimited grape-growing region having distinguishing features as described in part 9 of the regulations and a name and a delineated boundary as established in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.12 of the TTB regulations (27 CFR 9.12) prescribes standards for petitions for the establishment of American viticultural areas. Petitions to establish a viticultural area must include the following:

• Evidence that the area within the proposed viticultural area boundary is nationally or locally known by the viticultural area name specified in the petition;

• An explanation of the basis for defining the boundary of the proposed viticultural area;

• A narrative description of the features of the proposed viticultural area that affect viticulture, such as climate, geology, soils, physical features, and elevation, that make the proposed viticultural area distinctive and distinguish it from adjacent areas outside the proposed viticultural area boundary;

• A copy of the appropriate United States Geological Survey (USGS) map(s) showing the location of the proposed viticultural area, with the boundary of the proposed viticultural area clearly drawn thereon; and

• A detailed narrative description of the proposed viticultural area boundary based on USGS map markings.

Big Valley District-Lake County and Kelsey Bench-Lake County Petitions

TTB received two petitions from Terry Dereniuck on behalf of the Big Valley District and Kelsey Bench Growers Committee proposing the establishment of the “Big Valley District-Lake County” and “Kelsey Bench-Lake County” American viticultural areas within Lake County, California. The proposed Big Valley District-Lake County viticultural area has 6 bonded wineries and 43 vineyards containing approximately 1,800 acres of wine grapes. The proposed Kelsey Bench-Lake County viticultural area has 1 bonded winery and 27 vineyards containing approximately 900 acres of wine grapes. Because the two petitions were submitted simultaneously and the two proposed viticultural areas share a common boundary, TTB is combining both proposals into a single rulemaking document.

The proposed Big Valley District-Lake County and Kelsey Bench-Lake County viticultural areas are located in central Lake County, California. The two proposed viticultural areas are bordered by Mount Konocti and the Red Hills to the east and by the Mayacmas Mountains to the west and south. The two proposed viticultural areas lie entirely within the existing Clear Lake viticultural area (27 CFR 9.99) which, in turn, lies within the multicounty North Coast viticultural area (27 CFR 9.30).

The proposed Big Valley District-Lake County viticultural area is located on the southern shore of Clear Lake. The proposed Kelsey Bench-Lake County viticultural area is adjacent to the southern boundary of the proposed Big Valley District-Lake County viticultural area. TTB notes that this shared proposed boundary line splits two vineyards between the two proposed viticultural areas. However, the petition included letters from both vineyard owners stating their understanding of the split and their support for the establishment of both of the proposed viticultural areas. The letters were included in the rulemaking docket.

The petitioner also requested a modification of a small portion of the western boundary of the established “Red Hills Lake County” viticultural area (27 CFR 9.169), to align it with the eastern boundary of the proposed Kelsey Bench-Lake County viticultural area using features identifiable on the newest version of the Kelseyville USGS quadrangle map. The proposed modification would increase the size of the Red Hills Lake County viticultural area by approximately 7 acres. Before the comment period opened, the petitioner provided, as an addendum to the petition, letters from a representative of the Red Hills Lake County growers committee and a vineyard owner whose property is within the Red Hills Lake County viticultural area and near the region of the proposed boundary modification. Both letters supported the proposed boundary modification and were included in the rulemaking docket.

Notice of Proposed Rulemaking and Comments Received

TTB published Notice No. 134 in the Federal Register on April 5, 2013 (78 FR 20544), proposing to establish the Big Valley District-Lake County and Kelsey Bench-Lake County viticultural areas and to modify the boundary of the established Red Hills Lake County viticultural area. In the notice, TTB summarized the evidence from the petition regarding the name, boundary, and distinguishing features for the proposed viticultural areas. The distinguishing features of the proposed viticultural areas include geology, soils, climate, and topography. The notice also compared the distinguishing features of the proposed viticultural areas to the surrounding areas. For a description of the evidence relating to the name, boundary, and distinguishing features of the proposed viticultural areas and a comparison of the distinguishing features of the proposed viticultural areas to the surrounding areas, see Notice No. 134.

In Notice No. 134, TTB solicited comments on the accuracy of the name, boundary, climatic, and other required information submitted in support of the petitions. In addition, given the proposed viticultural areas' locations within the existing Clear Lake and North Coast viticultural areas, TTB solicited comments on whether the evidence submitted in the petitions regarding the distinguishing features of the proposed viticultural areas sufficiently differentiates the proposed viticultural areas from the two existing viticultural areas. TTB also asked for comments on whether the geographical features of the proposed viticultural areas are so distinguishable from the surrounding Clear Lake or North Coast viticultural areas that the proposed Big Valley District-Lake County and Kelsey Bench-Lake County viticultural areas should no longer be part of the two existing viticultural areas. Finally, TTB asked for comments on whether the boundary of the established Red Hills Lake County viticultural area should be modified to align with the proposed Kelsey Bench-Lake County viticultural area boundary using features identifiable on the latest version of the Kelseyville USGS map quadrangle. The comment period closed on June 4, 2013. TTB received no comments in response to Notice No. 134.

TTB Determination

After careful review of the petition and the letters submitted with the petition in support of the two proposed AVAs, TTB finds that the evidence provided by the petitioner supports the establishment of the approximately 11,000-acre Big Valley District-Lake County viticultural area and the 9,100-acre Kelsey Bench-Lake County viticultural area. Accordingly, under the authority of the FAA Act, section 1111(d) of the Homeland Security Act of 2002, and part 4 of the TTB regulations, TTB establishes the “Big Valley District-Lake County” viticultural area and the “Kelsey Bench-Lake County” viticultural area in Lake County, California, effective 30 days from the publication date of this document. TTB also determines that the land within the Big Valley District-Lake County viticultural area and the Kelsey Bench-Lake County viticultural area will remain part of both the Clear Lake and North Coast viticultural areas. Finally, TTB determines that the boundary of the Red Hills Lake County viticultural area will be modified as proposed.

Boundary Description

See the narrative boundary description of the viticultural areas in the regulatory text published at the end of this final rule.

Maps

The petitioner provided the required maps, and they are listed below in the regulatory text.

Impact on Current Wine Labels

Part 4 of the TTB regulations prohibits any label reference on a wine that indicates or implies an origin other than the wine's true place of origin. With the establishment of these two viticultural areas, their names, “Big Valley District-Lake County” and “Kelsey Bench-Lake County,” will be recognized as names of viticultural significance under 27 CFR 4.39(i)(3). TTB has also determined that the terms “Kelsey Bench” and “Kelseyville Bench” both have viticultural significance in relation to the Kelsey Bench-Lake County viticultural area. The text of the regulation clarifies these points. Once this final rule becomes effective, wine bottlers using the names “Big Valley District-Lake County,” “Kelsey Bench-Lake County,” “Kelsey Bench,” or “Kelseyville Bench” in a brand name, including a trademark, or in another label reference as to the origin of the wine, will have to ensure that the product is eligible to use the viticultural area name as an appellation of origin.

The establishment of the Big Valley District-Lake County viticultural area and the Kelsey Bench-Lake County viticultural area will not affect any existing viticultural area, and any bottlers using “Clear Lake” or “North Coast” as an appellation of origin or in a brand name for wines made from grapes grown within the Clear Lake or North Coast viticultural areas will not be affected by the establishment of these new viticultural areas. The establishment of the Big Valley District-Lake County viticultural area will allow vintners to use “Big Valley District-Lake County,” “Clear Lake,” and “North Coast” as appellations of origin for wines made from grapes grown within the Big Valley District-Lake County viticultural area if the wines meet the eligibility requirements for the appellation. Additionally, the establishment of the Kelsey Bench-Lake County viticultural area will allow vintners to use “Kelsey Bench-Lake County,” “Clear Lake,” and “North Coast” as appellations of origin for wines made from grapes grown within the Kelsey Bench-Lake County viticultural area.

For a wine to be labeled with a viticultural area name or other term identified as being viticulturally significant in part 9 of the TTB regulations or with a brand name that includes a viticultural area name or other viticulturally significant term, at least 85 percent of the wine must be derived from grapes grown within the area represented by that name or term, and the wine must meet the other conditions listed in 27 CFR 4.25(e)(3). If the wine is not eligible for labeling with a viticultural area name or other viticulturally significant term and that name or term appears in the brand name, then the label is not in compliance and the bottler must change the brand name and obtain approval of a new label. Similarly, if the viticultural area name or other viticulturally significant term appears in another reference on the label in a misleading manner, the bottler would have to obtain approval of a new label.

Different rules apply if a wine has a brand name containing a viticultural area name or other term of viticultural significance that was used as a brand name on a label approved before July 7, 1986. See 27 CFR 4.39(i)(2) for details.

Regulatory Flexibility Act

TTB certifies that this regulation will not have a significant economic impact on a substantial number of small entities. The regulation imposes no new reporting, recordkeeping, or other administrative requirement. Any benefit derived from the use of a viticultural area name would be the result of a proprietor's efforts and consumer acceptance of wines from that area. Therefore, no regulatory flexibility analysis is required.

Executive Order 12866

This rule is not a significant regulatory action as defined by Executive Order 12866 of September 30, 1993. Therefore, no regulatory assessment is required.

Drafting Information

Karen A. Thornton of the Regulations and Rulings Division drafted this final rule.

List of Subjects in 27 CFR Part 9

Wine.

The Regulatory Amendment

For the reasons discussed in the preamble, TTB amends title 27, chapter I, part 9, Code of Federal Regulations, as follows:

PART 9—AMERICAN VITICULTURAL AREAS

1. The authority citation for part 9 continues to read as follows:

Authority: 27 U.S.C. 205.

Subpart C—Approved American Viticultural Areas

2. Section 9.169 is amended by revising paragraphs (b)(4), (c)(15), (c)(16), and (c)(17) to read as follows:

§ 9.169 Red Hills Lake County.

* * * * *

(b) * * *

(4) Kelseyville Quadrangle—California. 1993.

(c) * * *

(15) Proceed east and then northeast approximately 0.4 mile along the unimproved road to the road's intersection with State Highway 29/175, then proceed east along State Highway 29/175 to the intersection of the highway with the 1,720-foot elevation line located just west of the 1,758-foot benchmark (BM) in section 25, T13N, R9W (Kelseyville Quadrangle); then

(16) Proceed northwest along the 1,720-foot elevation line to the common boundary line between sections 25 and 26, T13N, R9W; then

(17) Proceed north along the common boundary line between sections 25 and 26, T13N, R9W, and then the common boundary line between sections 23 and 24, T13N, R9W, (partially concurrent with Wilkinson Road) to the intersection of the common section 23-24 boundary line with the 1,600-foot elevation line (Kelseyville Quadrangle); then

* * * * *

3. Subpart C is amended by adding § 9.232 to read as follows:

§ 9.232 Big Valley District-Lake County.

(a) Name. The name of the viticultural area described in this section is “Big Valley District-Lake County”. For purposes of part 4 of this chapter, “Big Valley District-Lake County” is a term of viticultural significance.

(b) Approved maps. The four United States Geological Survey (USGS) 1:24,000 scale topographic maps used to determine the boundary of the Big Valley District-Lake County viticultural area are titled:

(1) Lucerne, CA, 1996;

(2) Kelseyville, CA, 1993;

(3) Highland Springs, CA, 1993; and

(4) Lakeport, CA, 1958; photorevised 1978; minor revision 1994.

(c) Boundary. The Big Valley District-Lake County viticultural area is located in Lake County, California. The boundary of the Big Valley District-Lake County viticultural area is as described below:

(1) The beginning point is on the Lucerne map at the point where Cole Creek flows into Clear Lake, section 36, T14N/R9W. From the beginning point, proceed southerly (upstream) along Cole Creek approximately 0.9 mile to the creek's intersection with Soda Bay Road, section 1, T13N/R9W; then

(2) Proceed east on Soda Bay Road less than 0.1 mile to the road's intersection with the unnamed, light-duty road known locally as Clark Drive, section 1, T13N/R09W; then

(3) Proceed southeast in a straight line less than 0.1 mile to the 1,400-foot elevation line, section 1, T13N/R9W; then

(4) Proceed southerly along the 1,400-foot elevation line, crossing onto the Kelseyville map, to the line's intersection with a marked cemetery east of Kelseyville (in the northeast quadrant of section 14, T13N/R9W), and then continue along the 1,400-foot elevation line approximately 0.35 mile to the line's intersection with an unnamed, unimproved road which runs north from Konocti Road, section 13, T13N/R9W; then

(5) Proceed south-southeast along the unnamed, unimproved road to the road's intersection with the improved portion of Konocti Road, section 13, T13N/R9W; then

(6) Proceed west on Konocti Road approximately 0.9 mile to the road's intersection with an unnamed, light-duty road within Kelseyville known locally as Main Street, section 14, T13N/R9W; then

(7) Proceed south-southeast on Main Street approximately 0.35 mile to its intersection with State Highway 29/175, section 14, T13N/R9W; then

(8) Proceed west-northwest on State Highway 29/175 approximately 0.4 mile to the highway's intersection with Kelsey Creek, section 14, T13N/R9W; then

(9) Proceed northwesterly (downstream) along Kelsey Creek approximately 0.5 mile to the creek's intersection with an unnamed, light-duty road known locally as Big Valley Road (or North Main Street), section 15, T13N/R9W; then

(10) Proceed west and then northwest on Big Valley Road approximately 0.35 mile to the road's intersection with Merritt Road, southern boundary of section 10, T13N/R9W; then

(11) Proceed west on Merritt Road approximately 0.3 mile to the road's intersection with the 1,400-foot elevation line, southern boundary of section 10, T13N/R9W; then

(12) Proceed northwesterly along the 1,400-foot elevation line to the line's intersection with State Highway 29/175, section 9, T13N/R9W, and then continue southerly along the 1,400-foot elevation to the line's intersection with Merritt Road, southern boundary of section 9, T13N/R9W; then

(13) Proceed west on Merritt Road approximately 0.1 mile to the road's intersection with Hill Creek, southern boundary of section 9, T13N/R9W; then

(14) Proceed southerly (upstream) along Hill Creek approximately 0.9 mile to the creek's intersection with Bell Hill Road, section 16, T13N/R9W; then

(15) Proceed west then southwest on Bell Hill Road approximately 0.15 mile, passing the intersection of Bell Hill Road and Hummel Lane, to Bell Hill Road's intersection with the 1,400-foot elevation line, section 16, T13N/R9W; then

(16) Proceed westerly and then southwesterly along the meandering 1,400-foot elevation line, crossing onto the Highland Springs map, to the line's first intersection with Bell Hill Road in section 20, T13N/R9W; then

(17) Proceed west on the meandering Bell Hill Road, crossing Adobe Creek, to the road's intersection with Highland Springs Road, section 30, T13N/R9W; then

(18) Proceed north on Highland Springs Road approximately 2.8 miles to the road's intersection with Mathews Road at the northwest corner of section 8, T13N/R9W; then

(19) Proceed west on Mathews Road approximately 0.7 mile to the road's intersection with an unnamed paved road known locally as Ackley Road, southern boundary of section 6, T13N/R9W; then

(20) Proceed north on Ackley Road approximately 0.9 mile, crossing onto the Lakeport map, to the road's intersection with State Highway 29/175, section 6; T13N/R9W; then

(21) Proceed due north-northeast in a straight line approximately 0.15 mile to the unnamed secondary highway known locally as Soda Bay Road, northern boundary of section 6, T13N/R9W; then

(22) Proceed east on Soda Bay Road approximately 0.35 mile to the road's intersection with Manning Creek, northern boundary of section 6, T13N/R9W; then

(23) Proceed northwesterly (downstream) along Manning Creek to the shore of Clear Lake, section 30, T14N/R9W; then

(24) Proceed easterly along the meandering shore of Clear Lake, crossing onto the Lucerne map, to the beginning point.

4. Subpart C is amended by adding § 9.233 to read as follows:

§ 9.233 Kelsey Bench-Lake County.

(a) Name. The name of the viticultural area described in this section is “Kelsey Bench-Lake County”. For purposes of part 4 of this chapter, “Kelsey Bench-Lake County,” “Kelsey Bench,” and “Kelseyville Bench” are terms of viticultural significance.

(b) Approved maps. The two United States Geological Survey (USGS) 1:24,000 scale topographic maps used to determine the boundary of the Kelsey Bench-Lake County viticultural area are titled:

(1) Kelseyville, CA, 1993; and

(2) Highland Springs, CA, 1993.

(c) Boundary. The Kelsey Bench-Lake County viticultural area is located in Lake County, California. The boundary of the Kelsey Bench-Lake County viticultural area is as described below:

(1) The beginning point is on the Kelseyville map within the town of Kelseyville at the intersection of Konocti Road and Main Street (not named on the map), section 14, T13N/R9W. From the beginning point, proceed east on Konocti Road approximately 0.9 mile to the road's 3-way intersection with an unnamed, unimproved road to the south, section 13, T13N/R9W; then

(2) Proceed south on the unnamed, unimproved road approximately 0.35 mile to a fork in the road, and continue on the eastern branch of the fork approximately 0.4 mile to the point where the road intersects a straight line drawn westward from the marked 2,493-foot elevation point in section 19, T13N/R9W, to the intersection of the 1,600-foot elevation line and the eastern boundary of section 23, T13N/R9W (which is concurrent with Wilkerson Road); then

(3) Proceed westerly along the straight line described in paragraph (c)(2) approximately 0.3 mile to the line's western end at the intersection of the 1,600-foot elevation line and the eastern boundary of section 23, T13N/R9W; then

(4) Proceed south along the eastern boundaries of sections 23 and 26, T13N/R9W, approximately 0.8 mile to the first intersection of the eastern boundary of section 26 and the 1,720-foot elevation line; then

(5) Proceed southeasterly along the 1,720-foot elevation line to the line's intersection with State Highway 29/175, just west of BM 1758, section 25, T13N/R9W; then

(6) Proceed west on State Highway 29/175 approximately 0.15 mile to the highway's intersection with an unnamed, unimproved road, section 25, T13N/R9W; then

(7) Proceed southwest then west on the unnamed, unimproved road approximately 0.4 mile to the road's intersection with Cole Creek Road at Bottle Rock Road, section 25, T13N/R9W; then

(8) Proceed west on Cole Creek Road approximately 0.65 mile to the road's intersection with an unnamed, light-duty road known locally as Live Oak Drive (at BM 1625), section 26, T13N/R9W; then

(9) Proceed northwest on Live Oak Drive to the road's intersection with Gross Road (at BM 1423), section 26, T13N/R9W; then

(10) Proceed south on Gross Road approximately 0.65 mile to the road's intersection with the 1,600-foot elevation line, section 26, T13N/R9W; then

(11) Proceed southerly along the meandering 1,600-foot elevation line to the line's intersection with Sweetwater Creek section 10, T12N/R9W; then

(12) Proceed due west in a straight line approximately 0.6 mile to the line's first intersection with the 1,600-foot elevation after crossing Kelsey Creek, section 10, T12N/R9W; then

(13) Proceed westerly and then northerly along the meandering 1,600-foot elevation line to the line's intersection with Kelsey Creek Drive, section 4, T12N/R9W; then

(14) Proceed west on Kelsey Creek Drive and then Adobe Creek Drive, crossing onto the Highland Springs map, and continue north-northwest on Adobe Creek Drive, a total distance of approximately 3.25 miles, to the marked 1,439-foot elevation point in section 29, T13N/R9W; then

(15) Proceed west-southwest in a straight line that passes through the marked 1,559-foot elevation point in section 29, T13N/R9W, and continue in the same direction to the line's intersection with an unnamed, light-duty road known locally as East Highland Springs Road, a total distance of approximately 0.6 mile, section 30, T13N, R9W; then

(16) Proceed north on East Highland Springs Road approximately 0.5 mile, to the road's intersection with an unnamed road in the northeast quadrant of section 30, T13N/R9W; then

(17) Proceed northwest on the unnamed road to the road's end point, then continue due north-northwest in a straight line, a total distance of approximately 0.3 mile, to the line's intersection with the southern boundary of section 19, T13N/R9W; then

(18) Proceed west along the southern boundary of section 19, T13N/R9W, approximately 0.5 mile to the section's southwest corner; then

(19) Proceed north along the western boundary of section 19, T13N/R9W, approximately 0.3 mile to the section line's seventh intersection with the 1,600-foot elevation line; then

(20) Proceed westerly, northwesterly, and then easterly along the meandering 1,600-foot elevation line to the line's second intersection with the northern boundary of section 19, T13N/R9W; then

(21) Proceed east along the northern boundary of section 19, T13N/R9W, approximately 0.35 mile to the section boundary's intersection with an unnamed road known locally as Fritch Road; then

(22) Proceed east on Fritch Road approximately 0.4 mile to the road's intersection with Highland Springs Road, section 18, T13N/R9W; then

(23) Proceed south on Highland Springs Road approximately 0.8 mile to the road's intersection with Bell Hill Road, section 19, T13N/R9W; then

(24) Proceed eastward on the meandering Bell Hill Road approximately 1.4 miles to the road's last intersection with the 1,400-foot elevation line in section 20, T13N/R9W; then

(25) Proceed northeasterly along the 1,400-foot elevation line, crossing onto the Kelseyville map, to the line's first intersection with Bell Hill Road in the southeast quadrant of section 16, T13N/R9W; then

(26) Proceed northeast and then east on Bell Hill Road approximately 0.15 mile to the road's intersection with Hill Creek, section 16, T13N/R9W; then

(27) Proceed northerly (downstream) along Hill Creek approximately 0.9 mile to the creek's intersection with Merritt Road, section 16, T13N/R9W; then

(28) Proceed east on Merritt Road approximately 0.1 mile to the road's intersection with the 1,400-foot elevation line, northern boundary of section 16, T13N/R9W; then

(29) Proceed northerly along the 1,400-foot elevation line approximately 0.2 mile to State Highway 29/175, section 9, T13N/R9W, and then continue northerly and then southeasterly along the 1,400-foot elevation line approximately 0.5 mile to the line's intersection with Merritt Road, northern boundary of section 15, T13N/R9W; then

(30) Proceed east on Merritt Road approximately 0.3 mile to the road's intersection with an unnamed road known locally as Big Valley Road (or North Main Street), northern boundary of section 15, T13N/R9W; then

(31) Proceed south then east on Big Valley Road (North Main Street) approximately 0.35 mile to the road's intersection with Kelsey Creek, section 15, T13N/R9W; then

(32) Proceed southerly (upstream) along Kelsey Creek approximately 0.5 mile to the creek's intersection with State Highway 29/175, section 14, T13N/R9W; then

(33) Proceed southeast on State Highway 29/175 approximately 0.4 mile, crossing Live Oak Drive, to the highway's intersection with an unnamed road known locally as Main Street, section 14, T13N/R9W; then

(34) Proceed north on Main Street approximately 0.3 mile, returning to the beginning point.

Signed: July 25, 2013.
John J. Manfreda,
Administrator.
Approved: September 25, 2013.
Timothy E. Skud,
Deputy Assistant Secretary, (Tax, Trade, and Tariff Policy).

[FR Doc. 2013-23939 Filed 10-1-13; 8:45 am]

BILLING CODE 4810-31-P